DEPARTMENT OF HOUSING AND URBAN DEVELOPMENT

[Docket No. FR-4737-N-7]

Notice of Proposed Information Collection for Public Comment: HOPE VI—In-Depth Assessment of Family and Neighborhood Outcomes—Wave Two of Panel Study

AGENCY: Office of Policy Development and Research, HUD.

ACTION: Notice.

SUMMARY: The proposed information collection requirement described below has been submitted to the Office of Management and Budget (OMB) for review, as required by the Paperwork Reduction Act. The Department is soliciting public comments on the subject proposal.

DATES: Comment Due Date: November 19, 2002.

ADDRESSES: Interested persons are invited to submit comments regarding this proposal. Comments should refer to the proposal by name and/or OMB approval number and should be sent to: Mildred M. Hamman, Reports Liaison Officer, Public and Indian Housing Department of Housing and Urban Development, 451 7th St., SW., Room 4238 Washington, DC 20410-5000.

FOR FURTHER INFORMATION CONTACT: Mildred M. Hamman, (202) 708-3642, x 4128 or Robert A. Leonard, (202) 708-3700, x4027 for copies of the proposed survey or other documents. These are not a toll-free numbers.

SUPPLEMENTARY INFORMATION: The Department has submitted the proposal for the collection of information, as described below, to OMB for review, as required by the Paperwork Reduction Act (44 U.S.C. Chapter 35, as amended).

This Notice is soliciting comments from members of the public and affected agencies concerning the proposed collection of information to: (1) Evaluate whether the proposed collection of information is necessary for the proper performance of the function of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission or responses.

This Notice also lists the following information:

Title of Proposal: HOPE VI—In-depth Assessment of Family and Neighborhood Outcomes—Wave Two of Panel Study.

Office: Public Housing Investments in the Office of Public and Indian Housing, HUD

OMB Approval Number: Extension of OMB #2577-0236.

Description of the Need for the Information and its Proposed Use: Questions have been raised among some observers of the HOPE VI program about where the original residents of the developments are living. The purposes of the information collected for this study is to increase knowledge of the ways in which housing choices and outcomes of original residents are affected by revitalization efforts at selected HOPE VI sites. Data gathered will be used by the Urban Institute and Abt Associates to prepare a project report that will allow HUD to begin assessing the benefits of HOPE VI for the original residents, particularly those that may accrue to families choosing to move to other locations, and to provide more guidance to grantees on relocation choices and strategies. This notice covers the second and third waves of a three-wave panel study. The survey for waves 2 and 3 will cover the same topic areas as were addressed in the baseline survey: housing and neighborhood conditions; adult and child health; child education; adult employment, income and hardship; and relocation from public housing.

Form Number: None.

Members of Affected Public: 887 randomly selected original residents of the five selected HOPE VI sites that have received HOPE VI grants between 1998 and 2000 and that have not begun relocating residents.

Frequency of Submission: Once.

Reporting Burden:

| Number of respondents | × | Frequency of response | × | Hours per response | = | Burden hours
Original Residents | 887 |  | 2 |  | 1 |  | 1,774

Total Estimated Burden Hours: 1,774.

Status of the Proposed Information Collection: Extension of previous approval.

Authority: Section 3507 of the Paperwork Reduction Act of 1995, 44 U.S.C. 35, as amended.

Dated: September 10, 2002.
Harold L. Bunce,
Deputy Assistant Secretary, for Economics Affairs.

[FR Doc. 02-23932 Filed 9-19-02; 8:45 am]

BILLING CODE 4210-62-M